DEPARTMENT OF COMMERCE

National Oceanic and Atmospheric Administration

[I.D. 032803D]

Magnuson-Stevens Act Provisions; General Provisions for Domestic Fisheries; Applications for Exempted Fishing Permits (EFPs)

AGENCY: National Marine Fisheries Service (NMFS), National Oceanic and Atmospheric Administration (NOAA), Commerce.

ACTION: Notification of a proposal for an EFP to conduct experimental fishing; request for comments.

SUMMARY: The Administrator, Northeast Region, NMFS (Regional Administrator) has made a preliminary determination that an EFP application submitted by the Mount Desert Oceanarium (MDO) of Southwest Harbor, ME, contains all of the required information and warrants further consideration. The EFP would allow one fishing vessel to fish for, retain, and land small numbers of regulated multispecies, monkfish, spiny dogfish, and several unmanaged species for the purpose of public display. NMFS has made a preliminary determination that the activities authorized under this EFP would be consistent with the goals and objectives of the Fishery Management Plans (FMPs) for the managed species. However, further review and consultation may be necessary before a final determination is made to issue the EFP. Regulations under the Magnuson-Stevens Fishery Conservation and Management Act require publication of this notification to provide interested parties the opportunity to comment on applications for proposed EFPs.

DATES: Comments on this notification must be received at the appropriate address or fax number (see ADDRESSES) on or before April 29, 2003.

ADDRESSES: Comments should be sent to Patricia Kurkul, Regional Administrator, Northeast Regional Office, NMFS, One Blackburn Drive, Gloucester, MA 01930. Mark on the outside of the envelope “Comments on MDO Exempted Fishing Permit Application.”

FOR FURTHER INFORMATION CONTACT: Paul H. Jones, Fishery Policy Analyst, 978-281-9273, fax 978-281-9135, e-mail Paul.H.Jones@noaa.gov.

SUPPLEMENTARY INFORMATION: The MDO of Southwest Harbor, ME, submitted an application for an EFP on February 14, 2003, to collect several species of fish for public display. The target species would include winter flounder (blackbacks), witch flounder (dabs), yellowtail flounder, American plaice (grey sole), Atlantic halibut, monkfish, eel pouts, sculpins, sea ravens, Atlantic cod, wolfish, spiny dogfish, little skate, barndoor skate, and various species of the Phyla Arthropoda (not including lobsters) and Echinodermata.

A single chartered vessel would use a shrimp trawl with 2-inch (5.08-cm) mesh to collect marine fish with approximately 2-tows per day over a 2-day period from May 12, 2003, through May 20, 2003, and over a 2-day period from June 23, 2003, through June 30, 2003. Tow lengths would be between 10 minutes to 1 hour. The specimens would be cared for in chilled and aerated seawater while on board the fishing vessel and would be transferred live to tanks the day they are caught. The fish would be brought to shore, maintained in tanks for public display for a period of time not to exceed 5 months, and would be returned to the sea in October 2003.

Collection would be made using a 2-inch (5.08-cm) mesh shrimp net within the Small Mesh Northern Shrimp Fishery Exemption Area (Area) off Maine. Since the shrimp fishery would be closed at the time of collection, an exemption from the Northeast multispecies minimum mesh regulation of 6-inch (15.24-cm) diamond/6.5-inch (16.51-cm) square mesh at 50 CFR 648.80(a)(2) for vessels operating in the Area would be required. If the target species cannot be found in the Area, an exemption from the Northeast multispecies minimum mesh regulation of 6-inch (15.24-cm) diamond/6.5-inch (16.51-cm) square mesh at 50 CFR 648.80(a)(2) would be required to allow collection farther east and southeast in portions of the Gulf of Maine/Georges Bank Regulated Mesh Area.

In addition, the applicant has requested exemptions from monkfish and multispecies days-at-sea requirements at 50 CFR 648.92 and 648.82. The target species would include winter flounder (blackbacks), witch flounder (dabs), yellowtail flounder, American plaice (grey sole), Atlantic halibut, monkfish, eel pouts, sculpins, sea ravens, Atlantic cod, wolfish, spiny dogfish, little skate, barndoor skate, and various species of the Phyla Arthropoda (not including lobsters) and Echinodermata.

The applicant would retain a maximum of six fish per species, juveniles and adults combined with the exception of Atlantic halibut. The applicant would only be permitted to retain a total of one Atlantic halibut with a minimum length of 36 inches (91.44 cm). The applicant has requested exemption from minimum fish sizes and possession limits at 50 CFR 648.83, 648.86, 648.89, 648.93, 648.94 (multispecies and monkfish fisheries); 648.103, 648.105 (summer flounder fishery); 648.124, 648.125 (scup fishery); and 648.143, 648.145 (black sea bass fishery).

Any fishing activity conducted outside the scope of the exempted fishing activity would be prohibited.

Authority: 16 U.S.C. 1801 et seq.

Dated: April 8, 2003.
Richard W. Surdi,
Acting Director, Office of Sustainable Fisheries, National Marine Fisheries Service.

[FR Doc. 03-9060 Filed 4-11-03; 8:45 am]

BILLING CODE 3510-22-S